SMALL BUSINESS ADMINISTRATION

SBIC License Issuance

AGENCY: U.S. Small Business Administration.

ACTION: Notice of Small Business Investment Company (SBIC) licenses.

SUMMARY: Pursuant to the authority granted to the United States Small Business Administration under section 301(c) of the Small Business Investment Act of 1958, as amended, to grant Small Business Investment Company licenses under the Small Business Investment Company Program, this notice satisfies the requirement effective August 17, 2023 under 13 CFR 107.501(a) to publish in the Federal Register the names of SBICs with date of licensure and Total Intended Leverage Commitments. The following SBICs received SBIC licenses as of the date indicated below:

SBIC fund name | Date of licensure | Leverage tiers ¹
New Mountain Finance SBIC III, L.P | 7/15/2025 | 2.00x
Dauntless Ventures SBIC-A, L.P | 7/29/2025 | 1.25x
Dauntless Ventures SBIC-B, L.P | 7/29/2025 | 2.00x
Snowpoint Ventures II—S&T, L.P | 7/29/2025 | 0.50x
New North Ventures Fund II SBIC, L.P | 7/30/2025 | 1.25x
Signal Peak Ventures IV-A, L.P | 7/30/2025 | 1.25x
AE Ventures Fund III, L.P | 7/31/2025 | 1.25x
BRC Fund IV, L.P | 8/5/2025 | 1.00x
Blue Sage Strategic Credit Fund, L.P | 8/15/2025 | 2.00x
Hudson Ferry Capital III, L.P | 8/22/2025 | 1.50x
Bluhaus Small Business Fund II, L.P | 8/28/2025 | 2.00x
Michigan Capital Network Venture Fund V, L.P | 9/15/2025 | 1.00x
Argosy Investment Partners SBIC 7, L.P | 9/16/2025 | 1.00x
Courage Healthcare SBIC Fund I, L.P | 9/23/2025 | 1.25x
SBJ Elevation Fund, L.P | 9/26/2025 | 2.00x
PCI III, L.P | 9/29/2025 | 2.00x
Verde Capital Partners, L.P | 9/30/2025 | 2.00x
¹ Maximum amount of Leverage expressed as a multiple of Leverageable Capital pursuant to 13 CFR 107.1150.

Paul Van Eyl,
Director of Policy, Office of Investment and Innovation, U.S. Small Business Administration.

[FR Doc. 2025-20461 Filed 11-19-25; 8:45 am]

BILLING CODE 8026-09-P